DEPARTMENT OF THE INTERIOR

[MT-922-04-1310-FI-P; (NDM 89629)]

Notice of Proposed Reinstatement of Terminated Oil and Gas Lease NDM 89629

AGENCY: Bureau of Land Management, Interior.

ACTION: Notice.

SUMMARY: Per 30 U.S.C. 188(d), the lessee, NPC, Inc., timely filed a petition for reinstatement of oil and gas lease NDM 89629, Billings County, North Dakota. NPC, Inc. paid the required rental accruing from the date of termination, February 1, 2005.

No leases were issued that affect these lands. The lessee agrees to new lease terms for rentals and royalties of $10 per acre and 16⅔ percent or 4 percentages above the existing competitive royalty rate. The lessee paid the $500 administration fee for the reinstatement of the lease and $155 cost for publishing this notice.

The lessee met the requirements for reinstatement of the lease per Sec. 31 (d) and (e) of the Mineral Leasing Act of 1920 (30 U.S.C. 188). We are proposing to reinstate the lease, effective the date of termination subject to:

• The original terms and conditions of the lease;

• The increased rental of $10 per acre;

• The increased royalty of 16⅔ percent or 4 percentages above the existing competitive royalty rate; and

• The $155 cost of publishing this Notice

FOR FURTHER INFORMATION CONTACT: Karen L. Johnson, Chief, Fluids Adjudication Section, BLM Montana State Office, P.O. Box 36800, Billings, Montana 59107, (406) 896-5098.

Dated: June 23, 2005.
Karen L. Johnson,
Chief, Fluids Adjudication Section.

[FR Doc. 05-14313 Filed 7-20-05; 8:45 am]

BILLING CODE 4310-$$-P